DEPARTMENT OF THE INTERIOR

Bureau of Land Management

[AK050-1430-EQ-P; AA085605]

Lease of Public Land: Paxson, AK

AGENCY: Bureau of Land Management, DOI.

ACTION: Notice of realty action.

SUMMARY: This notice of realty action involves a proposal for a 20 year renewable commercial lease to the State of Alaska, Department of Fish and Game, Commercial Fisheries. The lease is intended to authorize the maintenance and operation of a fish hatchery on public lands.

DATES: The time limits for filing an appeal are:

1. Comments and an application must be received within 45 days from the publication of this notice to file an appeal.

2. Parties receiving service of the decision by certified mail shall have 30 days from the date of receipt to file an appeal.

Parties who do not file an appeal in accordance with the requirements of 43 CFR part 4, subpart E, shall be deemed to have waived their rights.

ADDRESSES: A copy of the decision may be obtained from: Bureau of Land Management, Glennallen Field Office, P.O. Box 147, Glennallen, Alaska 99588-0147.

FOR FURTHER INFORMATION CONTACT: Brenda Becker, by phone at 907-822-3217, or by e-mail at Brenda_becker@ak.blm.gov.

SUPPLEMENTARY INFORMATION: The site examined and found suitable for leasing under the provisions of Sec. 302 of the Federal Land Policy and Management Act of 1976, and 43 CFR 2920, is described as within:

Secs. 7 and 8, T. 22 S., R. 12 E., Copper River Meridian.

An application will only be accepted from the State of Alaska, Department of Fish and Game, Commercial Fisheries. The comments and application must include a reference to this notice. Fair market rental as determined by appraisal will be collected for the use of these lands, and reasonable administrative and monitoring costs for processing the lease. A final determination will be made after completion of an environmental assessment.

Ramone Baccus McCoy,
Glennallen Field Manager.

[FR Doc. 05-3405 Filed 2-22-05; 8:45 am]

BILLING CODE 4310-JA-P